DEPARTMENT OF JUSTICE

Notice of Filing of Proposed Stipulation by the United States To Resolve Certain Alleged Violations of a Clean Air Act Consent Decree With Alcoa, Inc.

Notice is hereby given that on November 15, 2006, the United States filed with the United States District Court for the Western District of Texas, in Cast No. A-03-CA-222-SS, a motion for judicial approval of a stipulation that it has entered into with Defendant Alcoa Inc. (“Alcoa”) and Intervenor-Defendant TXU Sandow Development Company LP (“TXU Sandow”) to resolve certain alleged violations of the Consent Decree in this action. The specific alleged violations addressed by the stipulation relate to Alcoa's failure to commence construction of one or more new units (the “Replacement Sandow Units”) to replace the three existing electricity generating units (the “Existing Sandow Units”) at Alcoa's Rockdale, Texas, facility by April 25, 2005; and Alcoa's anticipated failure to commence operation of the new replacement units by April 25, 2007. The relief provided by the stipulation is set forth in a proposed order (“Stipulated Order”) that the United States tendered with its motion. This Stipulated Order provides for, among other things:

• Payment of $859,000 in stipulated penalties as part of the resolution of Alcoa's anticipated failure to commence timely operation of the Replacement Sandow Units by April 25, 2007;

• Shutdown of the three Existing Sandow Units by December 31, 2006, roughly four months earlier than required by the consent decree;

• A commitment by Alcoa and TXU Sandow to commence operation of the Replacement Sandow Unit with full emission controls by no later than August 31, 2009;

• A commitment by Alcoa and TXU Sandow to achieve an emission rate for NOX at the Replacement Sandow Unit that is 20% lower than the rate currently provided for in the Consent Decree; and

• A commitment by TXU Sandow to install selective catalytic reduction system (“SCR”) to eliminate most of the remaining NOX emissions from Sandow Unit 4—a unit not previously addressed by the consent decree.

The Stipulated Order also provides for the addition of TXU Sandow as a party to the Consent Decree, jointly and severally liable with Alcoa for the obligations pertaining to the Replacement Sandow Unit, and solely liable for the obligations pertaining to the SCR at Sandow Unit 4.

The Department of Justice will receive for a period of twenty (20) days from the date of this publication comments relating to the proposed Stipulated Order. Comments should be addressed to the Assistant Attorney General, Environment and Natural Resources Division, P.O. Box 7611, U.S. Department of Justice, Washington, DC 20044-7611, and should refer to United States v. Alcoa Inc., D.J. Ref. No. 90-5-2-1-07723/1.

The Unites States' Motion for Approval of Stipulation to Resolve Certain Alleged Violations of Consent Decree, including the proposed Stipulated Order, may be examined at the Office of the United States Attorney, Western District of Texas, 816 Congress Avenue, Suite 1000, Austin, Texas 78701, and at U.S. EPA Region VI, 1445 Ross Avenue, Dallas, TX 75202-2733. During the public comment period, the Motion and Stipulated Order may also be examined on the following Department of Justice Web site, http://www.usdoj.gov/enrd/Consent_Decrees.html. In addition, a copy of the proposed Stipulated Order may also be obtained by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury.

W. Benjamin Fisherow,
Deputy Chief, Environmental Enforcement Section, Environment and Natural Resources Division.

[FR Doc. 06-9353 Filed 11-21-06; 8:45 am]

BILLING CODE 4410-15-M